FEDERAL COMMUNICATIONS COMMISSION

[WT Docket No. 02-55; DA 05-1546]

NPSPAC Regions Assigned to Wave 1 and Specific 800 MHz Reconfiguration Benchmark Compliance Dates

AGENCY: Federal Communications Commission.

ACTION: Notice.

SUMMARY: As part of the 800 MHz band reconfiguration process, the Commission stated that it would issue a public notice thirty days before reconfiguration is scheduled to start in each NPSPAC region. Each such public notice will specify a three-month voluntary negotiation period during which time identified licensees in the regions being reconfigured are encouraged to reach agreement with Nextel on the details of relocating. The voluntary negotiation period would be followed by a three-month mandatory negotiation period, if necessary. The Commission also stated that it would freeze the filing of certain 800 MHz applications for the regions being reconfigured when it issued a public notice announcing the date when voluntary negotiation of relocation agreements must be concluded. The Commission explained that this freeze is necessary in order to maintain a stable spectral landscape during the reconfiguration process in each region. Finally, the Commission noted that the start date for reconfiguration in the first NPSPAC region will also be the start date for computation of two interim reconfiguration benchmarks (eighteen and thirty months) and the start date for determining when reconfiguration must be completed (thirty-six months).

DATES: This notice announces that 800 MHz band reconfiguration shall commence on June 27, 2005.

FOR FURTHER INFORMATION CONTACT: Roberto Mussenden, Roberto.Mussenden@FCC.gov, Public Safety and Critical Infrastructure Division, Wireless Telecommunications Bureau, (202) 418-0680, TTY (202) 418-7233.

SUPPLEMENTARY INFORMATION: This is a summary of a public notice released on May 27, 2005.

1. In July 2004, the Federal Communications Commission (FCC) adopted a Report and Order (69 FR 67823, November 22, 2004), which reconfigured the 800 MHz band to eliminate interference to public safety and other land mobile communication systems operating in the band. As specified in the Report and Order, the band reconfiguration process is being overseen by a Transition Administrator (TA) which has provided the Commission with a plan detailing when band reconfiguration will commence in each of the fifty-five 800 MHz National Public Safety Planning Advisory Committee (NPSPAC) regions. On March 11, 2005, the Bureau approved the TA's basic 800 MHz band reconfiguration schedule, i.e., the grouping of the NPSPAC regions into four waves (Waves 1-4) and starting the reconfiguration process in each wave on the dates recommended by the TA.

2. In a public notice released on May 27, 2005, the Commission announced that the 800 MHz band reconfiguration process for non-NPSPAC channels will start June 27, 2005, in the NPSPAC regions assigned to Wave 1. A list of NPSPAC regions assigned to Wave 1 is attached to this notice. Therefore, the three-month period during which non-NPSPAC 800 MHz licensees have the option of negotiating on a voluntary basis will end September 26, 2005, followed by a the three-month mandatory negotiation period that will end December 26, 2005.

3. The Commission also announced that, effective May 27, 2005, it froze the filing of 800 MHz applications for non-NPSPAC channels in Wave 1. The freeze applies to stations located in either (1) one of the NPSPAC regions assigned to Wave 1 or (2) an adjacent region but within 70 miles of the border of one of the Wave 1 regions. This freeze will last until thirty working days after the date for completion of mandatory negotiations as specified above, i.e., until February 8, 2006. The freeze does not apply to modification applications filed to implement 800 MHz band reconfiguration, modification applications filed that do not change a 800 MHz frequency or expand a 800 MHz station's existing coverage area (e.g., administrative updates), assignments/transfers, or renewal-only applications.

4. The release date of the May 27, 2005 public notice also established the eighteen, thirty and thirty-six month reconfiguration benchmark compliance dates as defined in the Report and Order and Supplemental Order. Therefore, Nextel Communications, Inc., must (i) relocate all but Nextel and SouthernLINC incumbents from Channels 1-120 in the first twenty NPSPAC regions scheduled for reconfiguration and (ii) initiate retuning negotiations with all NPSPAC licensees in those same regions by December 26, 2006, (eighteen month benchmark) and that all applicable systems must have commenced reconfiguration by December 26, 2007 (thirty month benchmark). The 800 MHz band reconfiguration must be completed by June 26, 2008 (thirty-six month benchmark).

5. To facilitate the 800 MHz reconfiguration process, the Commission has established the following new radio service codes for licenses that list 800 MHz band frequencies governed by part 90 of the Commission's Rules:

Site specific licenses:

• Public safety (conventional)—GE

• Public safety (trunked)—YE

• Business/Industrial/Land Transportation (conventional)—GJ

• Business/Industrial/Land Transportation (trunked)—YJ

• SMR (conventional)—GM and GL (The GL code is used only for applications listing both 800 MHz and 900 MHz frequencies)

• SMR (trunked)—YM and YL (The YL code is used only for applications listing both 800 MHz and 900 MHz frequencies)

Geographic area licenses:

Attachment—NPSPAC Regions Assigned to Wave 1
NPSPAC Region | Description of Region ¹
6 | California (Northern)
7 | Colorado
8 | NY City area (NY, NJ, & CT)
11 | Hawaii
13 | Illinois (except Southern Lake Michigan counties)
14 | Indiana (except Southern Lake Michigan counties)
19 | New England
20 | Maryland, Northern VA & DC
27 | Nevada
28 | Eastern PA, DE & Southern NJ
35 | Oregon
41 | Utah
42 | Virginia
45 | Wisconsin (except Southern Lake Michigan counties)
54 | Southern Lake Michigan (MI, WI, IL, & IN) ²
* | Large non-public safety systems that cover multiple NPSPAC regions ³
1 Regions that are only a portion of a state or states are defined by counties. A list of the counties in each of these regions can be accessed at http://www.fcc.gov/Bureaus/Wireless/Orders/1998/fcc98191.txt.
2 The counties in Michigan in Region 54 will be in Wave 4 because of border area issues. See TA Plan.
3 Large non-public safety systems that provide coverage beyond the border of NPSPAC regions in Wave 1 will have their entire system, including base stations located outside the boundaries of Wave 1 NPSPAC regions, reconfigured as part of the Wave 1 reconfiguration process.

• SMR, market area—YH and CY (The CY code is used only for applications listing both 800 MHz and 1.9 GHz frequencies)

6. The Commission's Universal Licensing System (ULS) will automatically update modification applications filed to implement 800 MHz band reconfiguration to show the appropriate new radio service code (i.e., applicants should file using their current radio service codes). Once the radio service code has been changed on the license by the Commission, licensees filing subsequent applications concerning that license must use the new radio service code.

7. The Reconfiguration Plan filed by the TA is available on the Commission's 800 MHz band reconfiguration Web page at http://www.800MHz.gov. Questions concerning the plan, and other Transition Administrator matters, including whether your 800 MHz system must be relocated, should be directed to Brett Haan, BearingPoint, 1676 International Drive, McLean, VA 22102, Brett.Haan@800ta.org.

Federal Communications Commission.
Ramona Melson,
Chief of Staff, Public Safety and Critical Infrastructure Division, WTB.

[FR Doc. 05-11644 Filed 6-14-05; 8:45 am]

BILLING CODE 6712-01-P